DEPARTMENT OF HEALTH AND HUMAN SERVICES

Centers for Disease Control and Prevention

Disease, Disability, and Injury Prevention and Control Special Emphasis Panel (SEP): Evaluation of the Validity of Coverage Survey Self-Reported Audit Vaccination Status, Funding Opportunity Announcement (FOA) IP08-003; Strategies to Extend the Influenza Vaccination Season in Medical Practices, IP08-004; Effectiveness of a Hospital-Based Program for Vaccination of Birth Mothers and Household Contacts with Influenza Vaccines and Combined Tetanus Toxoid and a Cellular Pertussis Vaccine, FOA IP08-005; Effectiveness of an Intervention to Promote a Targeted Vaccination Program in the Obstetrician-Gynecologist Setting, FOA IP08-008

In accordance with Section 10(a)(2) of the Federal Advisory Committee Act (Pub. L. 92-463), the Centers for Disease Control and Prevention (CDC) announces the aforementioned meeting:

Time and Date: 12 p.m.-4 p.m., May 20, 2008 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of “Evaluation of the Validity of Coverage Survey Self-Reported Audit Vaccination Status, FOA IP08-003; Strategies to Extend the Influenza Vaccination Season in Medical Practices, FOA IP08-004; Effectiveness of a Hospital-Based Program for Vaccination of Birth Mothers and Household Contacts with Influenza Vaccines and Combined Tetanus Toxoid and a Cellular Pertussis Vaccine, FOA IP08-005; Effectiveness of an Intervention to Promote a Targeted Vaccination Program in the Obstetrician-Gynecologist Setting, FOA IP08-008.”

Contact Person for More Information: Sheree Marshall Williams, Ph.D., Scientific Review Administrator, CDC, 1600 Clifton Road, NE., Mailstop D72, Atlanta, GA 30333, Telephone: (404) 639-4896.

The Director, Management Analysis and Services Office, has been delegated the authority to sign Federal Register notices pertaining to announcements of meetings and other committee management activities, for both CDC and the Agency for Toxic Substances and Disease Registry.

Dated: April 15, 2008.
Elaine L. Baker,
Director, Management Analysis and Services Office, Centers for Disease Control and Prevention.

[FR Doc. E8-8617 Filed 4-21-08; 8:45 am]

BILLING CODE 4163-18-P